DEPARTMENT OF COMMERCE

National Oceanic and Atmospheric Administration

RIN 0648-XD848

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Research Steering Committee.

DATES: This meeting will be held on Wednesday, April 8, 2015 at 9:30 a.m.

ADDRESSES: Meeting address: The meeting will be held at the Radisson Airport Hotel, 2081 Post Road, Warwick, RI 02886; telephone: (401) 739-3000; fax: (401) 732-9309.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The Research Steering Committee will: (a) Review the final report for the cooperative research project “Large Mesh [Belly] Panel in Small Mesh Fisheries as a Method to Reduce Yellowtail Flounder Bycatch in Cultivator Shoal”; (b) review any additional analysis performed for the cooperative research project “Large Mesh [Belly] Panel in Small Mesh Fisheries as a Method to Reduce Yellowtail Flounder Bycatch in Georges Bank”; and (c) discuss possible improvements to the research set-aside process. The Committee also may receive an update on the Council-funded collaborative groundfish research project managed by the Northeast Consortium (Supplemental Request for Proposal due March 17, 2015). Other issues may also be discussed.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: March 19, 2015.
William D. Chappell,
Acting Deputy Director, Office of Sustainable Fisheries, National Marine Fisheries Service.

[FR Doc. 2015-06659 Filed 3-23-15; 8:45 am]

BILLING CODE 3510-22-P